FEDERAL COMMUNICATIONS COMMISSION

[MB Docket 06-189; FCC 06-154]

Annual Assessment of the Status of Competition in the Market for the Delivery of Video Programming

AGENCY: Federal Communications Commission.

ACTION: Notice.

SUMMARY: The Commission is required to report annually to Congress on the status of competition in markets for the delivery of video programming. This document solicits information from the public for use in preparing this year's competition report that is to be submitted to Congress. Comments and data submitted by parties will be used in conjunction with publicly available information and filings submitted in relevant Commission proceedings to assess the extent of competition in the market for the delivery of video programming.

DATES: Interested parties may file comments on or before November 29, 2006, and reply comments are due on or before December 29, 2006.

ADDRESSES: You may submit comments, identified by MB 06-189, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION, CONTACT: Anne Levine, Media Bureau, (202) 418-7027, TTY (202) 418-7172, or by e-mail at Anne.Levine@ fcc.gov.

SUPPLEMENTARY INFORMATION: This is a synopsis of the Commission's Notice of Inquiry (NOI) in MB Docket No. 06-189, FCC 06-154, adopted October 12, 2006, and released October 20, 2006. The complete text of this NOI is available for inspection and copying during regular business hours in the FCC's Reference Information Center, Room CY-A257, Portals II, 445 Twelfth Street, SW., Washington, DC 20554. The complete text is also available on the Commission's Internet Site at http://www.fcc.gov. Alternative formats are available to persons with disabilities by contacting Brian Millin at (202) 418-7426 or TTY (202) 418-7365. The complete text of the NOI may also be purchased from the Commission's duplicating contractor, Best Company and Printing, Inc., Portals II, 445 12th Street, SW., Room CY-B402, Washington, DC 20554, telephone (202) 863-2893, facsimile (202) 863-2898, or by e-mail fcc@bcpiweb.com, or via its website http://www.bcpiweb.com.

Synopsis of Notice of Inquiry

1. Section 628(g) of the Communications Act of 1934, as amended, directs the Commission to report to Congress annually on the status of competition in the market for the delivery of video programming. This Notice of Inquiry (NOI) solicits data and information on for our thirteenth annual report (2006 Report). We request information, comments, and analyses that will allow us to evaluate the status of competition in the video marketplace, changes in the market since the 2005 Report, prospects for new entrants to that market, factors that have facilitated or impeded competition, and the effect these factors are having on consumers' access to video programming.

2. We encourage thorough and substantive submissions from industry participants and state and local regulators with the best knowledge of the questions and issues raised to ensure the accuracy and usefulness of this Report. We will augment reported information with submissions in other Commission proceedings. In the past, we have had to rely on data from publicly available sources when information has not been provided directly by industry participants and will do so again if necessary. Nevertheless, we are concerned that such publicly available information may not be adequate, especially when various sources provide inconsistent data.

Competition in the Market for the Delivery of Video Programming

3. We ask commenters to provide data on video programming distributors, including cable systems; direct broadcast satellite (DBS) operators; large home satellite dish (C-Band) providers; broadband service providers (BSPs); private cable operators (PCO), also called satellite master antenna television systems; open video systems (OVS); wireless cable systems using frequencies in the broadband radio and educational broadband services; local exchange carrier (LEC) systems; utility-operated systems; commercial mobile radio services (CMRS) and other wireless providers; and over-the-air broadcast television stations. We seek information on video programming distributed over the Internet and via Internet Protocol (IP) networks and through home video sales and rentals. We also seek information that will allow us to evaluate horizontal concentration in the video marketplace, vertical integration between programming distributors and programming services, and other issues relating to the programming available to consumers. We request information on technical issues, including equipment and emerging services. We seek comments regarding developments in foreign markets, as they may contribute to our understanding of domestic markets. Where possible and relevant, we request data as of June 30, 2006.

4. We seek information and statistical data for each type of multichannel video programming distributor (MVPD), including the number of homes passed by each wired technology; the number of homes capable of receiving service via each wireless technology; the number of subscribers and penetration rates for each service (e.g., basic cable service tier (BST), cable programming service tier (CPST), premium, or their equivalents provided by non-cable MVPDs, a la carte, pay-per-view, and video-on-demand (VOD) services); available channel capacity of the system; the number, type, and identity of video programming channels offered, the channel capacity required for such offerings and the tiers on which such programming is offered; and the channel capacity used for non-video services; prices charged for various programming packages and the required equipment; industry and individual firm financial information; information on how video programming distributors compare in terms of relative size and financial resources; data that measure the audience reach of video programming networks as well as relative control over the video distribution market; and information on video distributor expansion into non-video markets such as local telephony, high-speed Internet access, wireless telephone service; and other new technologies being considered, tested, or deployed.

5. We are interested in data and information on the number of homes that have a choice of MVPD services. How many households can receive service from one or more providers (e.g., DBS, wireless cable, PCO) as well as an incumbent cable provider? How many consumers have access to wireline overbuilders and why is the availability of wireline alternatives low relative to wireless alternatives? Where does wireline competition exist, and where is entry likely in the near future? Where has wireline competition once existed but failed? What effect has competition among MVPDs had on consumers (e.g., prices, programming choices, quality of service, and the introduction of video and non-video advanced services)?

6. To evaluate substitution between MVPD technologies, we seek data on relative prices of similar services offered by different types of competitors. What effect does the bundling (packaging) of video, voice, and high-speed data services have on head-to-head competition? We are interested in investigating methods for comparing service packages among MVPDs.

7. Barriers to entry can be regulatory, technological, or financial in origin. We seek to understand what these barriers are and how they impede competition in the MVPD marketplace. Are there any existing Commission regulations or statutory provisions that prevent or discourage new entrants from investing in, or deploying broadband or other networks for the purpose of offering consumers video services? Are there steps that Congress and the Commission may take to reduce barriers to competition in the video market, or to increase consumer choice? We request comments on the effects that franchising and other local and state regulations have on competition in the video marketplace.

8. We request detailed information about programming networks, including ownership, the type of programming networks (e.g., national, regional, local), and the genre of programming networks (e.g., sports, news, children's, general entertainment, foreign language). We seek information on existing, planned, and terminated or merged programming networks to assess the changes over the past year in the amount and type of video programming that is available to consumers. We also seek information on the nature of trends in the status of programming networks' vertical integration with cable operators and with other media interests. We note that programming networks are being offered in a variety of forms (e.g., multiplexed networks, VOD, shared channels), and we seek comment on whether and how to count such programming networks for assessing trends in vertical integration. We ask commenters to provide information regarding the delivery mode (i.e., satellite or terrestrial delivery) of each national and regional network, as we are unaware of any comprehensive source of this information.

9. We request information on children's, locally-originated, and local news and community affairs programming distributed to consumers by broadcasters and MVPDs. To what extent is programming offered in languages other than English, nationally and locally? How is such programming packaged (i.e., part of CPST, digital tier, separate tier)? We also seek comment regarding public, educational, and governmental access channels, including the number of channels used by cable operators and other MVPDs for this purpose. We ask for information on the programming provided by DBS operators in compliance with their public interest obligation. We also seek information on the use of leased access channels, and ask whether they provide an opportunity for independent programmers to distribute their programming.

10. We seek comment on programmers' access to carriage by MVPDs. We request information on the number of independent networks that launched in the past year, including total subscribers; the distributors that carry them; the manner of carriage (e.g., expanded basic, digital tier, themed digital tier, VOD) and their ongoing efforts to obtain further distribution by cable, DBS, and other service providers. Specifically, we request comment regarding any difficulties programming networks encounter when launching a new service and information on the kinds of carriage arrangements that are required to secure MVPD carriage.

11. We seek information on how video programming distributors package and market their programming. To what extent are MVPDs offering programming on an a la carte basis or in mixed bundles, themed tiers, and subscriber-selected tiers? We seek information on family friendly programming, including the cost and content of these packages. Are family tiers offered on a stand-alone basis or must consumers subscribe to other tiers (e.g., basic service tier, digital tier) to receive them? Do subscribers need additional equipment to receive the family tier? Do MVPDs offer or plan to offer consumers more choice in channel selection, specifically a la carte or themed tiers, rather than traditional tiering of programming services?

12. We seek to assess the extent to which MVPDs have been able to acquire or license programming owned by other video distributors. Is there specific programming, national or regional/local, that is unavailable to either cable or non-cable operators and, if so, why? What effect does vertical integration have on competing distributors' ability to obtain programming? Are there certain “must-have” programming services, or genres of services (e.g., regional sports) without which competitive video service providers may find themselves unable to compete effectively? We also seek information on exclusive contracts for all types of programming.

13. We request comment on the effectiveness of our program access, program carriage, and channel occupancy rules. What, if any, video programming services that were once delivered to MVPDs by satellite have been migrated to terrestrial delivery? Which terrestrially delivered networks owned by or affiliated with a program distributor are unavailable to some MVPDs under the so-called terrestrial exemption to the Commission's program access rules? What exclusive programming arrangements exist between programmers and MVPDs? With the advent of VOD, what are the competitive implications of video programming distributors securing exclusive rights to programming for inclusion in their VOD offerings?

14. We request comment on competition issues specific to video programming distribution in rural and smaller markets, including the number of MVPDs serving small and rural markets, their subscribership, the services and video programming options they offer, and the cost for video services. How does competition differ between rural and smaller markets and larger, urban areas? We seek information on alternative technologies, such as digital subscriber line (DSL) and fiber-based Internet Protocol television (IPTV) that small and rural operators are adopting. We seek information on any existing differences in program carriage agreements between larger urban systems and those in small or rural areas, including information on whether buying cooperatives help small or rural operators obtain video programming at discounted rates.

15. We seek specific information regarding MVPD service in Alaska and Hawaii. We are interested in whether, and how, cable, DBS, and other MVPD services offered in these states differ from that provided in other states. How do prices for the various packages of service compare to the average national price for such MVPD services? We also seek information on any differences in the equipment needed by consumers to receive video programming service.

16. We also seek comment on any factors that are unique to competition in multiple dwelling units (MDUs). How common is it for consumers to have choices among video programming services within MDUs?

17. We also invite commenters to provide information on access to programming by persons with disabilities. We seek comment on what, if any, concerns industry and the public have with meeting the upcoming increased captioning requirements for new Spanish language and “pre-rule” English language programming. We seek information on the quality, accuracy, placement, technology, and any instances of missing or delayed captions, and the amount of digital programming that contains closed captions translated from analog closed captions. We seek comment on the extent to which digital programming may not be captioned and ask why this is the case. We seek information on the availability of video description, currently provided by programmers on a voluntary basis, and the amount and types of video programming that includes video description.

Cable Television Service

18. For the 2006 Report, we seek updated information on the performance of the cable television industry. We request information regarding cable operators' continuing investments to upgrade their plant and equipment to increase channel capacity, create digital services, or offer advanced services. We request information on the development of various methods or technologies to increase system capacity, such as switched digital video technology.

19. For individual cable multiple system operators (MSOs), we request information such as the number of systems upgraded, the channel capacity (in terms of both analog and digital channel capacity and the compression ratio used for digital transmissions) resulting from upgrades, the number of systems, the number of homes passed by, and the number of subscribers to digital tier services. To what extent is the new capacity used for non-video services? We also seek information on cable operators who have launched or plan to launch digital simulcasts of their analog channel lineups on one or more of their systems. How have the structure and price of service tiers change if a system becomes all-digital? What are the implications for customer premises equipment?

20. We seek information on cable system transactions during the past year, including the names of the buyer and seller, the date and type of transaction (i.e., sale or swap), the name and location of the system, homes passed and number of subscribers, and the price. We request data regarding the effect of clustering (the practice of clustering, whereby operators concentrate their operations in specific geographic areas) on competition in the video programming distribution market.

21. We seek comment on whether cable operators are changing the way they package programming and the role actual or potential competition plays in any such changes. Do cable operators offer or plan to offer genre packages or themed tiers (e.g., family, sports, or lifestyle tiers) or programming on an a la carte basis? We seek information on the programming included on these tiers and their cost, including information on whether subscribers must purchase other tiers in order to subscribe to these tiers or to purchase channels on an a la carte basis.

22. Section 612(g) of the Communications Act provides that when cable systems with 36 or more activated channels are available to 70 percent of households within the U.S. and are subscribed to by 70 percent of those households, the Commission may promulgate any additional rules necessary to promote diversity of information sources. Because data submitted in the record of the 2005 Report raised questions as to whether the second prong of the so-called “70/70 test” had been satisfied, we requested further public comment on this issue. We again request comment and supporting data that would be useful for determining an accurate homes passed statistic, including the number of homes passed by systems with 36 or more activated channels. Have there been developments in the last year that would suggest that the criteria specified under Section 612(g) have been met, and if so, what additional rules should the Commission promulgate to promote diversity of information sources?

23. We request data on the percentage of broadcast stations carried on cable pursuant to retransmission consent agreements and the percentage that are carried pursuant to the must carry provisions. We also seek information on the percentage of required set-aside channels that cable operators currently are using to carry local broadcast signals. To what extent do cable operators pay cash for broadcast station carriage rights, carry non-broadcast programming networks, provide advertising time, or otherwise compensate broadcasters? We also request comment on the effect of retransmission consent compensation on cable rates, the ability of small cable operators to secure retransmission consent on fair and reasonable terms, and the impact of agreements that require the carriage of non-broadcast networks in exchange for the right to carry local broadcast stations on MVPDs and consumers.

24. We also request comment on the “tier buy-through” option mandated by Section 623(b)(8) of the Communications Act, including the percentage of subscribers taking advantage of this option; the problems, if any, it creates; the manner in which cable operators make this option known to the public; and the extent to which the option is applicable (i.e., the extent to which programming is offered or purchased on a per-program or per-channel basis).

Direct-to-Home Satellite Services

25. We seek information and data that explain the factors contributing to DBS' growth in the video programming market and that can help us assess whether those characteristics will continue to position DBS as cable's principal competitor. Is there evidence of meaningful price competition between DBS and cable? Do initial DBS equipment costs or other factors prevent cable subscribers from switching despite escalating monthly cable bills? Does the dynamic between the platforms change in markets where DBS offers local broadcast signals?

26. We seek updated information on the geographic characteristics of direct to home (DTH) subscribership and, in particular, DBS subscribership, and the factors that account for its relative strengths or weaknesses in different markets (e.g., areas not served by a cable or other wireline provider vs. other areas). To what extent do DBS subscribers reside in areas not passed by cable systems? What percentage of new DBS subscribers are former cable subscribers or former C-Band subscribers?

27. We seek updated information on the deployment of DBS satellites, and plans to expand DBS satellite fleets. Have these additional satellites resulted in increased channel capacity or the provision of advanced services? What technical methods are DBS providers using to increase capacity?

28. We request updated information on the number of markets where local-into-local television service is offered, or will be offered in the near future, pursuant to the Satellite Home Viewer Improvement Act of 1999, including the number and affiliation of the stations carried. What percentage of DBS subscribers are opting for local programming packages in markets where they are available? What is the cost to consumers of local-into-local broadcast channels? How many markets receive local high definition (HD) programming? What type of equipment is necessary to receive local HD broadcasts and what is the cost of the service and the equipment?

29. On December 8, 2004, the Satellite Home Viewer Extension and Reauthorization Act of 2004 (SHVERA) was enacted, which added new provisions to the Communications and Copyright Acts pertaining to the retransmission by DBS of distant broadcast signals. Throughout 2005, the Commission implemented the provisions of the SHVERA. We request comment on the impact, if any, these provisions have had on the MVPD marketplace. With respect to the new authorization to market broadcast station signals deemed “significantly viewed,” to what extent are such signals being made available to subscribers?

30. We request data on prices for DBS programming packages and equipment, and the subscribership of different packages of programming. Do DBS operators offer any programming on an a la carte basis and, if so, what are the prices and subscription requirements associated with such offerings? What additional charges, if any, are required to obtain foreign language or foreign originated programming? We also request information about programming packages available to C-Band subscribers, including the types of packages offered, their prices, and the amount of programming that is offered on an a la carte basis and that is free and unscrambled.

Local Exchange Carriers

31. We previously reported that LEC entry into the MVPD industry has been limited, but that developments demonstrated renewed LEC interest in providing video programming services. We seek information generally regarding LECs that provide video programming services. Are there any regulatory or statutory impediments to LEC entry in the video service market? Do LECs target specific areas or markets for deployment and what are the determinants of these decisions? How do LEC video services compare to those available from incumbent cable or satellite operators? Is there evidence of price competition between LECs, cable, and satellite operators?

32. The major incumbent local exchange carriers (ILECs) have marketing agreements with DBS providers under which they sell the DBS operator's video services along with their telephony and DSL-based high speed Internet access service. What effect have these agreements had on LEC entry into the video industry? We also request comment on smaller ILECs are reportedly constructing their own all-fiber or mostly fiber networks to deliver video and advanced services to their existing voice and data customers. Are there any unique barriers to entry into smaller and rural video markets?

Broadband Service Providers and Open Video System Operators

33. We request information regarding the provision of video, voice, and data services by broadband service providers (BSPs), including municipal entities, and independent and competitive local exchange carriers (CLEC) overbuilders (to the extent they operate technologically advanced networks capable of providing video and non-video services). Are video programming services offered in combination with telephone and high-speed Internet access services and, if so, how are rates affected by the packaging of multiple services? How many, or what percentage of, BSP subscribers purchase video service alone, video and telephony, video and high-speed Internet access services, or all three services? We seek comment on the effect that BSPs have on video competition, and the characteristics that facilitate BSP competitiveness (e.g., number of subscribers, homes passed, geographical reach, demographics, and business models). Are there still significant barriers to entry? What are the technical and economic factors that determine whether overbuild systems are successful?

Open Video System Operators

34. To what extent are new wireline entrants operating under the open video system (OVS) classification, and what factors (e.g., state and local franchising requirements) cause new entrants to choose the OVS classification? How many subscribers receive video services from OVS operators, and how many subscribers purchase the non-video services offered? We seek information on why new entrants that have chosen the OVS classification and on MVPD entrants that initially chose OVS classification, but have since converted to another framework (e.g., Title VI cable service). Are video and non-video services offered in combination with one another, and, if so, how are rates affected by the packaging of multiple services? What effect do OVS operators have on video competition?

Electric and Gas Utilities

35. We seek information regarding utility companies that provide video services, including broadband over powerline technology. To what extent are video programming services being bundled with telephone, high-speed Internet access, or other utility services and how do these offerings compare with those of incumbent cable operators?

Broadcast Television Service

36. We seek data and comment on the role of broadcast television in the market for the delivery of video programming. We seek data on broadcast network and station audience shares, especially relative to those of non-broadcast programming services. We also request data on broadcast advertising revenue. To what extent has cable gained local, regional, or national advertising market share from broadcast television? What forms of compensation are broadcasters receiving for retransmission consent? In terms of additional sources of revenue, to what extent are cable and DBS operators paying cash compensation for retransmission of broadcast stations? If the compensation is not cash based, how is it accounted for?

37. We request data on the number or percentage of households relying solely on over-the-air broadcast television for programming. We also seek information on the number of MVPD households, by type of MVPD service, that rely on over-the-air reception for local broadcast service on one or more of their television sets not connected to an MVPD. We ask commenters to provide demographic information that might assist us in classifying such households (e.g., urban vs. rural, income, education levels, age).

38. We seek comment on a number of issues concerning the transition to digital television (DTV) service. We request information on the number of households that are able to receive DTV/HDTV programming either over the air or from an MVPD. We seek current data and projections for the number of households that rely on over-the-air reception of broadcast television that have DTV sets, including the number that have built-in or separate DTV tuner capability. What reception difficulties, if any, do viewers that are within the service areas of DTV stations experience, and have there been any advances to address reception performance? Are there unique reception issues that differentiate DTV service from analog service in terms of either better or worse over-the-air reception?

39. We request information regarding the MVPD carriage of DTV programming, in either standard definition (SD) or high definition (HD) formats, and plans to increase the amount of DTV programming carried. How many MVPD subscribers are served by systems that carry DTV programming, and how many households are subscribing to such services when offered as separate packages? We also request comment on carriage agreements between MVPDs and broadcasters. Specifically, how many noncommercial educational broadcast stations are being carried, and under what terms?

40. We seek information on how MVPDs package and price broadcast and non-broadcast DTV programming. What impact will the digital transition have on competition if cable has the capacity to provide broadcast HD programming, but DBS operators do not?

41. We request information on the amount and type of DTV programming offered by broadcasters. To what extent are they using their DTV spectrum for SDTV, HDTV, or multicasting? To what extent are stations locally producing DTV or HDTV programming? To what extent are stations offered network HDTV programming that they are either not equipped to pass through, or for other reasons do not pass through? How are noncommercial educational broadcasters, including PBS affiliates, using the DTV spectrum? Are there differences in the ways that commercial and noncommercial broadcasters are using their DTV spectrum?

42. Have the Commission's programs to educate consumers about the transition to digital television resulted in greater consumer familiarity with DTV in general and HDTV specifically? We seek data regarding consumers' awareness of the DTV transition, including consumer survey results. We seek information on the consumer education efforts of government, retailers, broadcasters, video programmers and producers, and others. How successful are these consumer education efforts?

43. We seek information on the types of services and content that broadcasters are transmitting using multicasting. We seek information on whether multicasting is limited to large markets, or if stations in small- and medium-sized markets are multicasting. How much multicast programming is locally produced or locally focused? To what extent is the provision of multicast service dependent upon its carriage by cable and other MVPD operators? In how many markets are cable operators and other MVPDs carrying broadcasters' multicast programming, and which markets are they?

44. DTV also allows broadcasters to use part of their digital bandwidth for subscription multichannel video programming services and datacasting. How many TV households subscribe to these services, what markets have access to these services, and what is their expected growth over the next several years? We further request information on how broadcasters are using datacasting to deliver services and content to consumers.

45. We seek updated information on the adoption of the equipment needed to receive digital programming, either over the air or from an MVPD, such as the total number of DTV displays, including HD-ready and enhanced definition (ED)-ready monitors, and set-top, over-the-air tuners, that have been shipped to retailers or sold to consumers. How many DBS receivers contain over-the-air DTV reception capabilities? How many cable set-top boxes include this capability? We also seek information on the development and availability of digital-to-analog converters that will allow digital TV broadcasts to be viewed on analog TV sets. We seek an update on the development of a high-quality, low-cost digital-to-analog converter box for terrestrial DTV reception.

Wireless Cable Systems

46. Wireless cable operators offer limited competition to incumbent cable operators. Many licensees of the Broadband Radio Service (BRS) and Educational Broadband Service (EBS) used by wireless cable operators to provide video service have chosen to focus on the delivery of non-video broadband services, such as high-speed Internet service. Have factors such as concerns regarding access to programming, bandwidth considerations, local regulatory considerations, and bundled service offerings, led wireless cable operators to move away from video service?

Private Cable Operators

47. We request information on the types of services offered by private cable operators (PCOs), also known as satellite master antenna television (SMATV) operators. We seek information on the identification of PCO companies, the geographic areas they serve, the programming packages offered, and the prices of such packages compared to those of incumbent cable operators. We seek comment on whether PCOs are using CARS licenses to provide additional competition to incumbent cable operators.

Commercial Mobile Radio Service Providers

48. We request information on the availability and deployment of mobile television services, including information on programming agreements between video programming networks and other content providers and cell phone companies. How many mobile telephone users have access to and subscribe to video programming services? What equipment is required to receive these services, and what is the cost of equipment and service? In which markets are these services available? We are interested in any studies or surveys that explore the use of mobile video services as a complement to, or a substitute for, traditional video services. Do current trends suggest that we should consider mobile telephone providers that offer video programming to be MVPDs?

49. We also seek information on video distribution from other wireless devices, including iPODs and personal digital assistants (PDAs), used to receive such programming. We seek information on the manner in which video content is delivered to these devices (e.g., broadcast vs. Internet downloading). We seek information on how programmers are re-purposing traditional video programming for viewing on these devices, and if programmers are creating content specifically for these new devices.

Internet Video

50. We seek updated information on the types of video services offered over the Internet in both real time and downloadable format. We request comment on its quality relative to traditional video program distribution. We seek projections of whether Internet video will become a viable competitor in the market for the delivery of video programming and, if so, when such competition will emerge. We also seek comment on companies that provide content distribution via the Internet for independent content producers.

Home Video Sales and Rentals

51. We seek information regarding the home video sales and rental market, including data on the number or percentage of households with videocassette recorders (VHS) and digital versatile disc (DVD) players. We request information on the amount of programming available in DVD and VHS formats, for sale and rental, the cost of rentals, and how this compares with the cost of pay-per-view, video-on-demand, or near video-on-demand programming offered by MVPDs. We also seek information on Internet-based video sales and rental services and the effect, if any, they have on video distributors' service offerings, such as VOD and pay-per-view.

Advanced Services

52. We seek information on the advanced services offered by all MVPDs (e.g., VOD, digital video recorders (DVRs), high-speed Internet access, telephony, and HDTV). We request subscribership statistics; cost data; and required equipment for each type of service offered. We request information on how MVPDs bundle these services and how this affects competition.

53. For example, we seek information on the programming that is available through video-on-demand. Is there programming that is produced especially for VOD? How much VOD content is local? What amount of VOD content is exclusive to any one video distributor?

54. We seek information on DVR services provided by MVPDs. What percentage of subscribers has access to operator-supplied DVRs, and how many subscribe to the service? How many use a DVR not supplied by an MVPD? We seek information on the characteristics of the DVRs offered (e.g., single or dual tuner, storage capacity). Do DBS providers still use DVRs to approximate VOD service? What percentage of the DVR set-top boxes are leased as opposed to purchased? Do MVPDs plan to offer a network-based or centralized DVR-like service?

55. In addition, we seek information on the percentage of MVPD Internet access service subscribers that also are video subscribers. How is the service priced, and do video subscribers receive discounts? What is the status of DBS high-speed Internet access (e.g., telephone return path, two-way satellite delivered). Are MVPDs giving subscribers a choice of Internet service providers? Has any MVPD blocked access to certain kinds of Internet content or applications?

56. Finally, we seek information on the latest developments regarding Voice over Internet Protocol (VoIP) telephony. Is it marketed as part of a bundle of services? Are discounts offered to video subscribers? To what extent are MVPDs phasing out switched circuit telephony?

Technical Issues

57. Technological developments have important consequences for the state of video competition. We seek comment and data on a range of developments related to consumer equipment, navigation devices, the Open Cable Application Platform (OCAP), PacketCable, CableCARDs, advanced compression techniques, technical standards, and home networking.

58. We seek comment on the availability and compatibility of customer premises equipment used to provide video and non-video services. How many households currently have analog television sets that are connected to a set-top box for the provision of various MVPD services. How many of these set-top boxes only provide analog services and how many provide different types of digital service, (i.e., decode and display HD signals). How many of these MVPD set-top boxes also contain cable modems, IP telephony interfaces, DVR capabilities, or home networking capabilities, and how are these services priced? How many set-top boxes are capable of providing video programming on an a la carte basis and is any MVPD offering this service?

59. We also seek information on the retail availability of navigation devices to consumers. How many such devices have been sold? What are the obstacles to equipment manufacturers and others for obtaining approval to attach devices to MVPD systems? How does equipment design, function, and/or availability affect consumer choice and competition between firms in the video programming market? We request information on the development and deployment of electronic programming guides (EPGs), including the number and type of EPGs that video programming distributors offer or plan to offer, and the technologies used to distribute EPGs. We ask commenters to provide information on partnerships between video providers and developers of EPGs, the extent MVPD-affiliated EPGs are available to competitors, and whether subscribers have access to EPGs that are unaffiliated with their video provider? How many products are currently available with plug-and-play functionality, or are soon to be available?

60. We seek updated information on developments CableLabs' OCAP middleware solution. Which manufacturers are incorporating OCAP into their products? How many OCAP compliant products have been deployed, and how many are in use today? What types of applications exist for OCAP? Do smaller cable systems have plans to deploy these devices and, if so, how will they do it? We seek information on the results of OCAP device trials by MSOs in select markets, and whether they are expected to lead to commercial implementations and, if so, when. We request information on industry developments to facilitate bi-directional services and interactive television (ITV) applications and services. We also request updated information on the state of the agreement between the Consumer Electronics Association and the National Cable & Telecommunications Association to incorporate support for OCAP in interactive Digital Cable Ready (iDCR) devices, and whether any technical issues remain.

61. We solicit updated information on PacketCable, the specification standard for the delivery of advanced real-time multimedia services over two-way plant. We also seek updated information CableCARDs, including the number operators have placed in service: the manner in which subscribers must obtain a CableCARD: whether operators require professional installation of the card: and any monthly subscription charges or one-time fees associated with installing or authorizing the CableCARD. Have MVPDs or consumers encountered problems with CableCARDs and how have they been resolved? We seek information on the status of operators to develop multi-stream and two-way CableCARDs, and the impact this development will likely have on the competitive marketplace for digital cable-ready receivers, including DVRs.

62. We request updated information on the development and deployment of any downloadable conditional access systems. We seek comment on what content protection technologies are now available, how they work, and what legal or marketplace impediments have affected the roll-out of such tools. We seek comment on what security measures are in use and the effect of the choice of such security measures on competition. We also invite comment on how the Commission can encourage the development of digital rights management technology that will promote consumer uses of, and access to, high value digital content.

63. We request updates on MVPDs' implementation of advanced video compression technologies (codecs). We are particularly interested in examples of how the implementation of advanced codecs has increased efficiency or created specific benefits flowing to subscribers. In addition, we seek information on industry developments with respect to the creation of specifications and standards to support the wider introduction of home networks by MVPDs.

64. We seek information on the effect that technical rules and standards have on the market for video programming services. Are there specific actions that the Commission may take to foster greater competition among video service providers? Do current technical rules and standards (such as the “plug-and-play” standards), provide a level playing field among competitors in the video delivery marketplace?

Foreign Markets

65. We seek information or case studies that address the status of competition in foreign markets for the delivery of video programming because developments in other countries can lend insight into the nature of competition in the United States. Specifically, we seek information regarding the differences between the U.S. market and foreign markets, including differences in pricing; packaging (e.g., a la carte offerings); deployment of VoIP; the DTV transition; and competition among MVPDs or over-the-air service. We seek input from distributors operating both in the United States and abroad. How do different regulatory approaches affect their business models?

Procedural Matters

66. Authority. This NOI is issued pursuant to authority contained in Sections 4(i), 4(j), 403, and 628(g) of the Communications Act, as amended, 47 U.S.C. 154(i), 154(j), 403, and 548(g).

67. Ex Parte Rules. There are no ex parte or disclosure requirements applicable to this proceeding pursuant to 47 CFR 1.1204(b)(1).

68. Comment Information. Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the website for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Federal Communications Commission.
Marlene H. Dortch,
Secretary.

[FR Doc. E6-19473 Filed 11-16-06; 8:45 am]

BILLING CODE 6712-01-P